FEDERAL COMMUNICATIONS COMMISSION

[Report No. 2892]

Petitions for Reconsideration of Action in Rulemaking Proceeding

July 15, 2009.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by August 11, 2009. See Section 1.4(b)(1) of the Commission's rules (47 CFR 1.4(b)(1)). Replies to oppositions must be filed within 10 days after the time for filing oppositions have expired.

Subject: In the Matter of Investigation of the Spectrum Requirements for Advanced Medical Technologies (ET Docket No. 06-135).

Number of Petitions Filed: 1.

Subject: In the Matter of Promoting Diversification of Ownership in the Broadcasting Services (MB Docket No. 07-294).

2006 Quadrennial Regulatory Review—Review of the Commission's Broadcast Ownership Rules and other Rules Adopted Pursuant to Section 202 of the Telecommunications Act of 1996 (MB Docket No. 06-121).

2002 Biennial Regulatory Review—Review of the Commission's Broadcast Ownership Rules and other Rules Adopted Pursuant to Section 202 of the Telecommunications Act of 1996 (MB Docket No. 02-277).

Cross Ownership of Broadcast Stations and Newspapers (MM Docket No. 01-235).

Rules and Policies concerning Multiple Ownership of Radio Broadcast Stations in Local Markets (MM Docket No. 01-317).

Definition of Radio Markets (MM Docket No. 00-244).

Ways to Further Section 257 Mandate and To Build on Earlier Studies (MB Docket No. 04-228).

Number of Petitions Filed: 1.

Marlene H. Dortch,
Secretary.

[FR Doc. E9-17814 Filed 7-24-09; 8:45 am]

BILLING CODE 6712-01-P